DEPARTMENT OF THE INTERIOR

Fish and Wildlife Service

Draft Programmatic Environmental Impact Statement/Environmental Impact Report for the San Francisco Estuary Invasive Spartina Project: Spartina Control Program

AGENCY: Fish and Wildlife Service, Interior.

ACTION: Notice of availability.

SUMMARY: The Fish and Wildlife Service (Service) announces availability of the Draft Programmatic Environmental Impact Statement/Environmental Impact Report (Draft EIS/R) for the San Francisco Estuary Invasive Spartina Project: Spartina Control Program. The Draft EIS/R will be available for public comment for a period of 45 days after publication of this Notice of Availability in the Federal Register. The Service and the California State Coastal Conservancy jointly prepared the Draft EIS/R to address environmental impacts and benefits of alternatives for the Spartina Control Program and provide for early-stage public involvement, as required under the National Environmental Policy Act (NEPA) and California Environmental Quality Act (CEQA). The Spartina Control Program would attempt to eradicate four species of non-native, invasive perennial cordgrass (genus Spartina) in the San Francisco Bay Estuary (Estuary), including the San Francisco Bay National Wildlife Refuge.

DATES:

Public meetings will be held:

1. April 22, 2003, 6 p.m. to 9 p.m., Fremont, California.

2. April 23, 2003, 6 p.m. to 9 p.m., Oakland, California.

The public comment period for the Draft EIS/R will end June 2, 2003.

ADDRESSES: Meeting locations are:

1. Don Edwards National Wildlife Refuge, 1 Marshlands Road, Fremont, CA 94536.

2. Association of Bay Area Governments Offices, Room 171, Oakland, CA 94607.

Mail comments and requests for copies of the Draft EIS/R to Mr. Wayne White, Field Supervisor, U.S. Fish and Wildlife Service, Sacramento Fish and Wildlife Office, 2800 Cottage Way, Room W-2605, Sacramento, CA 95825. Copies of the Draft EIS/R can also be downloaded from the Fish and Wildlife Service Web site at http://sacramento.fws.gov. Comments and requests can alternatively be sent via electronic mail to spartina@fws.gov, or via facsimile to (916) 414-6713.

The California State Coastal Conservancy is located at 1330 Broadway, 11th Floor, Oakland, CA 94612.

FOR FURTHER INFORMATION CONTACT: NEPA Information: Mr. Mark Littlefield, Sacramento Fish and Wildlife Office, (916) 414-6600.

CEQA Information: Ms. Maxene Spellman, California State Coastal Conservancy, (510) 286-0332.

SUPPLEMENTARY INFORMATION: Comments must be received by the end of the comment period to be considered during preparation of the Final EIS/R and finalization of the Spartina Control Program. All comments, including names and addresses, will become part of the public record.

The programmatic EIS/R analyzes potential effects of implementing Spartina treatment methods at a generalized, region-wide program level rather than a detailed, individual project level. The purpose of the Spartina Control Program is to arrest and reverse the spread of invasive, non-native cordgrasses (S. alterniflora, S. anglica, S. densiflora, and S. patens) in the Estuary to preserve and restore the ecological integrity of its intertidal habitats and estuarine ecosystem.

The Estuary supports a diverse array of native plants and animals, including several Federal and State listed species. Many non-native species of plants and animals have been introduced to the Estuary, and some now threaten to cause fundamental changes in the structure, function, and ecological value of the Estuary's tidal lands. In recent decades, populations of non-native cordgrasses were introduced to the Estuary and rapidly began to spread. Although valuable in their native settings, these introduced cordgrasses are highly invasive in new environments and frequently become the dominant plant species. In particular, the non-native cordgrass species Atlantic smooth cordgrass (S. alterniflora) and its hybrids, formed when this species crosses with native Pacific cordgrass (S. foliosa), are now threatening the ecological balance of the Estuary. In the Estuary, Atlantic smooth cordgrass is likely to choke tidal creeks, dominate newly restored tidal marshes, impair thousands of acres of existing shorebird habitat, and eventually cause extinction of the native Pacific cordgrass.

Once established in the Estuary, non-native invasive cordgrass could rapidly spread to other estuaries along the California coast through seed dispersal on the tides. Non-native invasive cordgrasses are spreading rapidly in the Estuary and currently dominate 500 acres of mudflats and tidal marshes on State, Federal, municipal, and private lands. The Spartina Control Program proposes to implement a coordinated, region-wide eradication program, consisting of a number of on-the-ground treatment techniques that should stave off this invasion. The Spartina Control Program will be focused within the nearly 40,000 acres of tidal marsh and 29,000 acres of tidal flats that compose the shoreline areas of Alameda, Contra Costa, Marin, Napa, San Francisco, San Mateo, Santa Clara, Solano, Sonoma, and Sacramento counties.

At this time, three alternatives have been developed for full analysis: (1) Regional eradication using all available control methods in an integrated vegetation management (IVM) approach, (2) regional eradication using only non-chemical control methods in a program of IVM, and (3) no action (continued limited, regionally uncoordinated treatment). A fourth alternative, no control program at all, did not meet the purpose and need for the action and was removed from further consideration.

Alternatives 1 and 2 would employ a variety of manual and mechanical treatment methods including: (a) Hand-pulling and manual excavation; (b) mechanical excavation and dredging; (c) pruning, burning, and mowing; (d) smothering (blanketing); and (e) drowning and draining cordgrass. In addition to these methods, Alternative 1, the Preferred Alternative, would also employ application of herbicides in suitable situations. Both Alternatives 1 and 2 would incorporate a modified IVM approach by: (a) Using all available information regarding the estuarine ecosystem and cordgrass physiology and ecology; (b) combining this with the awareness of likely economic, ecological, and sociological consequences of the cordgrass invasion; (c) implementing a program that is effective and economical; and (d) protecting public and environmental health.

Because NEPA and CEQA have different requirements for some compliance elements, the Draft EIS/R was prepared to comply with whichever law's requirements were most stringent. The Draft EIS/R also identifies necessary permits and approvals from local, State, and Federal agencies, and includes supporting environmental documentation for the permits. Efforts will be regionally coordinated with appropriate natural resource agencies in order to develop a program that minimizes disturbance to sensitive habitats and species. The Final EIS/R will respond to comments received during public review of the Draft EIS/R and identify the Spartina Control Program alternative to be implemented. A copy of the Final EIS/R will be made available to all who commented on the Draft EIS/R and anyone requesting a copy.

(Authority: National Environmental Policy Act (42 U.S.C. 4321 et seq.); Regulations for Implementing the Procedural Provisions of the National Environmental Policy Act (40 CFR 1500-1508)).
Mary Ellen Mueller,
Acting Deputy Manager, California/Nevada Operations Office.

[FR Doc. 03-8196 Filed 4-17-03; 8:45 am]

BILLING CODE 4310-55-P